DEPARTMENT OF HOMELAND SECURITY

Federal Emergency Management Agency

[Docket ID FEMA-2015-0001; Internal Agency Docket No. FEMA-B-1552]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 18, 2015.
Roy E. Wright,
Deputy Associate Administrator for Insurance and Mitigation, Department of Homeland Security, Federal Emergency Management Agency.

State and county | Location and case No. | Chief executive officer of community | Community map repository | Online location of letter of map revision | Effective date of modification | Community No.
Arizona:
Maricopa | City of Peoria (15-09-1335P) | The Honorable Cathy Carlat, Mayor, City of Peoria, 8401 West Monroe Street, Peoria, AZ 85345 | City Hall, 8401 West Monroe Street, Peoria, AZ 85345 | http://www.msc.fema.gov/lomc | Dec. 11, 2015 | 040050
Maricopa | City of Tempe (15-09-2580P) | The Honorable Mark Mitchell, Mayor, City of Tempe, P. O. Box 5002, Tempe, AZ 85280 | Engineering Department, City Hall, 31 East Fifth Street, Tempe, AZ 85281 | http://www.msc.fema.gov/lomc | Feb. 5, 2016 | 040054
Maricopa | City of Scottsdale (15-09-2058P) | The Honorable W.J. Jim Lane, Mayor, City of Scottsdale, 3939 North Drinkwater Boulevard, Scottsdale, AZ 85251 | Scottsdale City Hall, 3939 North Drinkwater Boulevard, Scottsdale, AZ 85251 | http://www.msc.fema.gov/lomc | Jan. 8, 2016 | 045012
Maricopa | Town of Queen Creek (15-09-0910P) | The Honorable Gail Barney, Mayor, Town of Queen Creek, 22350 South Ellsworth Road, Queen Creek, AZ 85142 | Town Hall, 22350 South Ellsworth Road, Queen Creek, AZ 85142 | http://www.msc.fema.gov/lomc | Dec. 28, 2015 | 040132
Maricopa | Unincorporated Areas of Maricopa County (15-09-0910P) | The Honorable Steve Chucri, Chairman, Maricopa County, Board of Supervisors, 301 West Jefferson Street, 10th Floor, Phoenix, AZ 85003 | Flood Control District of Maricopa County, 2801 West Durango Street, Phoenix, AZ 85009 | http://www.msc.fema.gov/lomc | Dec. 28, 2015 | 040037
Pima | Unincorporated Areas of Pima County (14-09-4178P) | The Honorable Sharon Bronson, Chair, Pima County, Board of Supervisors, 130 W. Congress Street, 11th Floor, Tucson, AZ 85701 | Pima County Flood Control District, 97 East Congress Street, 3rd Floor, Tucson, AZ 85701 | http://www.msc.fema.gov/lomc | Jan. 25, 2016 | 040073
Pinal | Unincorporated Areas of Pinal County (15-09-0910P) | The Honorable Cheryl Chase, Chair, Pinal County, Board of Supervisors, 135 North Pinal Street, Florence, AZ 85132 | Pinal County Engineering Department, 135 North Pinal Street, Florence, AZ 85132 | http://www.msc.fema.gov/lomc | Dec. 28, 2015 | 040077
Yavapai | Town of Prescott Valley (15-09-1138P) | The Honorable Harvey Skoog, Mayor, Town of Prescott Valley, 7501 East Civic Circle, Prescott Valley, AZ 86314 | Engineering Division, 7501 East Civic Circle, Prescott Valley, AZ 86314 | http://www.msc.fema.gov/lomc | Jan. 8, 2016 | 040121
California:
Alameda | City of Alameda (15-09-1763X) | The Honorable Trish Herrera Spencer, Mayor, City of Alameda, City Hall, 2263 Santa Clara Avenue, Alameda, CA 94501 | 950 West Mall Square, Alameda, CA 94501 | http://www.msc.fema.gov/lomc | Dec. 11, 2015 | 060002
San Diego | City of Santee (14-09-3827P) | The Honorable Randy Voepel, Mayor, City of Santee, 10601 Magnolia Ave., Santee, CA 92071 | City Hall, 10601 Magnolia Drive, Santee, CA 92071 | http://www.msc.fema.gov/lomc | Jan. 29, 2016 | 060703
San Diego | Unincorporated Areas of San Diego County (14-09-3827P) | The Honorable Bill Horn, Chairman, Board of Supervisors San Diego County, 1600 Pacific Highway, San Diego, CA 92101 | Department of Public Works, Flood Control, 5201 Ruffin Road, Suite P, San Diego, CA 92123 | http://www.msc.fema.gov/lomc | Jan. 29, 2016 | 060284
San Diego | Unincorporated Areas of San Diego County (14-09-3829P) | The Honorable Bill Horn, Chairman, Board of Supervisors San Diego County, 1600 Pacific Highway, San Diego, CA 92101 | Department of Public Works, Flood Control, 5201 Ruffin Road, Suite P, San Diego, CA 92101 | http://www.msc.fema.gov/lomc | Jan. 29, 2016 | 060284
Santa Clara | City of Morgan Hill (15-09-1137P) | The Honorable Steve Tate, Mayor, City of Morgan Hill, 17555 Peak Avenue, Morgan Hill, CA 95037 | Public Works Department, 17555 Peak avenue, Morgan Hill, CA 95037 | http://www.msc.fema.gov/lomc | Dec. 14, 2015 | 060346
Nevada:
Clark | City of Henderson (15-09-1109P) | The Honorable Andy A. Hafen, Mayor, City of Henderson, 240 Water Street, Henderson, NV 89015 | Public Works Department, 240 Water Street, Henderson, NV 89015 | http://www.msc.fema.gov/lomc | Feb. 5, 2016 | 320005
Clark | Unincorporated Areas of Clark County (15-09-1539P) | The Honorable Steve Sisolak, Chairman, Board of Supervisors Clark County, 500 South Grand Central Parkway, 6th Floor, Las Vegas, NV 89155 | Office of the Director of Public Works, 500 South Grand Central Parkway, Las Vegas, NV 89155 | http://www.msc.fema.gov/lomc | Feb. 11, 2016 | 320003

[FR Doc. 2015-31029 Filed 12-8-15; 8:45 am]

BILLING CODE 9110-12-P